DEPARTMENT OF TRANSPORTATION

Federal Highway Administration

Notice of Final Federal Agency Actions on Proposed Highway in Ohio

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project (Interstate Route 75 and adjacent road network and interchanges) in the Cities of Cincinnati, Arlington Heights, Evendale, Glendale, Lincoln Heights, Lockland, Reading, and Sharonville, in Hamilton County, Ohio. Those actions grant licenses, permits, and approvals for the project.

DATES: By this notice, the FHWA is advising the public of final agency actions subject to 23 U.S.C. 139(l)(1). A claim seeking judicial review of the Federal agency actions on the highway project will be barred unless the claim is filed on or before December 27, 2011. If the Federal law that authorizes judicial review of a claim provides a time period of less than 180 days for filing such claim, then that shorter time period still applies.

FOR FURTHER INFORMATION CONTACT: Mr. Mark L. Vonder Embse, P.E., Major Projects Engineer, Federal Highway Administration, 200 North High Street, Columbus, Ohio, 43215; e-mail: mark.vonderembse@dot.gov; telephone: (614) 280-6854; FHWA Ohio Division Office's normal business hours are 7:30 a.m. to 4 p.m. (eastern time). You may also contact Mr. Jay Hamilton, Project Manager, Ohio Department of Transportation, 505 South SR-741, Lebanon, Ohio 45036; telephone: (513) 933-6584.

SUPPLEMENTARY INFORMATION: Notice is hereby given that the FHWA and other Federal agencies have taken final agency actions by issuing licenses, permits, and approvals for the following major highway improvement project in the State of Ohio: one additional through lane in each direction on I-75; changes in access for the following interchanges: Galbraith Road (modernize with full access), SR-126 (upgraded access but will lack two free-flow movements), Davis Street (off-ramp removed), Cooper Avenue (on and off-ramps removed), Anthony Wayne Avenue (on and off-ramps added via a new collector-distributor road), Shepherd Lane (modernized and upgraded to a full interchange), northbound collector-distributor at GE plant (removed and replaced with a local frontage road), southbound collector-distributor at GE plant (modernized and shortened), Mangham Drive (on and off-ramps with southbound collector-distributor at GE plant will be removed), Glendale-Milford Road (improved operations and geometry), Sharon Road (improved capacity at ramp terminals). The total project length along I-75 is approximately seven and three-tenths (7.3) miles. The actions by the Federal agencies, and the laws under which such actions were taken, are described in the Environmental Assessment (EA) for the project, approved on March 18, 2010, in the FHWA Finding Of No Significant Impact (FONSI) issued on March 29, 2011, and in other documents in the FHWA administrative record. The EA, FONSI, and other documents in the FHWA administrative record file are available by contacting the FHWA or the Ohio Department of Transportation at the addresses provided above.

This notice applies to all Federal agency decisions as of the issuance date of this notice and all laws under which such actions were taken, including but not limited to:

1. General: National Environmental Policy Act (NEPA) [42 USC 4321-4351]; Federal-Aid Highway Act [23 U.S.C. 109].

2. Air: Clean Air Act, 42 U.S.C. 7401-7671(q).

3. Land: Land and Water Conservation Fund (LWCF), 16 U.S.C. 4601-4604; Section 4(f) of the Department of Transportation Act of 1966 [49 U.S.C. 303]; Landscaping and Scenic Enhancement (Wildflowers), [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996].

7. Wetlands and Water Resources: Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: May 24, 2011.
Laura S. Leffler,
Division Administrator, Columbus, Ohio.

[FR Doc. 2011-16219 Filed 6-28-11; 8:45 am]

BILLING CODE 4910-RY-P